DEPARTMENT OF HEALTH AND HUMAN SERVICES

Centers for Disease Control and Prevention

Meeting Notice; Advisory Council for the Elimination of Tuberculosis (ACET)

In accordance with section 10(a) (2) of the Federal Advisory Committee Act (Pub. L. 92-463), the Centers for Disease Control and Prevention (CDC) announces the following meeting of the aforementioned committee:

TIME AND DATE: 10:00 a.m.-3:30 p.m., EDT, April 11, 2017.

PLACE: Web conference.

Toll free number 1-877-927-1433, Participant Code: 12016435.

To join the meeting: https://adobeconnect.cdc.gov/r5p8l2tytpq/.

STATUS: Open to the public, limited only by the number of ports available for the web conference. The meeting accommodates 100 ports. Persons who desire to make an oral statement, may request it at the time of the public comment period on April 11, 2017 at 3:20 p.m. EDT). Public participation and ability to comment will be limited to space and time as it permits.

PURPOSE: This council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

MATTERS FOR DISCUSSION: Agenda items include the following topics: (1) CDC's Global TB Work; (2) Identifying and Eliminating Stigmatizing Language in TB Communications; (3) Discussion and Approval of the Essential Components of Tuberculosis Prevention Control and Elimination Program Document; (4) Updates from Workgroups; and (5) other tuberculosis-related issues.

Agenda items are subject to change as priorities dictate.

This notice is being published less than 15 days prior to the meeting due to an unavoidable circumstance, the administrative change and procedural processing delays. In the interest of promoting openness and transparency, we are publishing a late notice in the Federal Register to inform the public.

CONTACT PERSON FOR MORE INFORMATION: Margie Scott-Cseh, Centers for Disease Control and Prevention, 1600 Clifton Road NE., M/S E-07, Atlanta, Georgia 30333, telephone (404) 639-8317; Email: zkr7@cdc.gov.

The Director, Management Analysis and Services Office, has been delegated the authority to sign Federal Register Notices pertaining to announcements of meetings and other committee management activities, for both the Centers for Disease Control and Prevention and the Agency for Toxic Substances and Disease Registry.

Claudette Grant,
Acting Director, Management Analysis and Services Office, Centers for Disease Control and Prevention.

[FR Doc. 2017-07284 Filed 4-7-17; 8:45 am]

BILLING CODE 4163-18-P